DEPARTMENT OF EDUCATION

Parental Information and Resource Centers Program

AGENCY: Department of Education.

ACTION: Notice of final priority, selection criteria, and eligibility requirements.

SUMMARY: We announce a competitive preference, selection criteria, and eligibility requirements for grants for fiscal year (FY) 2002 under the Parental Information and Resource Centers (PIRC) Program. We are taking this action to implement a competition authorized under the No Child Left Behind Act of 2001. These grants will assist eligible parties in establishing school-based or school-linked PIRCs.

EFFECTIVE DATE: June 27, 2002.

FOR FURTHER INFORMATION CONTACT: Daisy Greenfield, Office of Elementary and Secondary Education, U.S. Department of Education, 400 Maryland Avenue, SW., Room 3E307, FOB-6, Washington, DC 20202-6400. Telephone: (202) 401-0039 or via Internet: daisy.greenfield@ed.gov.

Individuals who use a telecommunications device for the deaf (TDD) may call the Federal Information Relay Service (FIRS) at 1-888-877-8339. Individuals with disabilities may obtain this notice in an alternative format (e.g., Braille, large print, audiotape, or computer diskette) on request to the contact person listed above. Please note, however, that the Department is not able to reproduce in an alternative format the standard forms included in the notice.

SUPPLEMENTARY INFORMATION: On April 4, 2002, we published in the Federal Register (67 FR 16096-16099) a notice of proposed priority, selection criteria, and eligibility requirements. In that notice, we announced our intent to give a competitive preference of 10 additional points to the highest-scoring applicant from each of the States in which the current PIRC project is ending. We also proposed selection criteria for the FY 2002 PIRC competition and interpreted the term “non-profit organization” for purposes of eligibility under the competition. The present notice announces the final competitive preference, selection criteria, and eligibility requirements for the FY 2002 PIRC competition.

Note: This notice does not solicit applications. A notice inviting applications for the FY 2002 PIRC competition is published elsewhere in this issue of the Federal Register.

Analysis of Comments and Changes

Five parties submitted comments in response to the notice of proposed priority, selection criteria, and eligibility requirements. Most of these comments were unrelated to the issues on which we solicited comments in that notice. The following is a summary of the comments that were submitted and our responses to those comments. We did not make any changes to the competitive preference, selection criteria, or eligibility requirements as a result of the comments.

Comment: One commenter requested that we eliminate the requirement that each PIRC must serve both urban and rural areas.

Discussion: We had not requested comments on this particular requirement. However, the legislation expressly requires each PIRC to serve both urban and rural areas. The intent of this provision is to help ensure that centers serve a broad region of their respective States.

Changes: None.

Comment: One commenter sought clarification on whether a national nonprofit organization is eligible for funding.

Response: The intent of the legislation is that each PIRC address the needs of parents in individual States. A national nonprofit organization may submit a State-specific application to provide services within a given State. The organization may not, however, submit a single application to address the needs of multiple States. This position is consistent with the legislation, and we do not believe that rulemaking on this issue is necessary.

Changes: None.

Comment: One commenter suggested that we (1) add language to other provisions of the Elementary and Secondary Education Act, as amended, (ESEA) to ensure that those programs collaborate and coordinate with the PIRCs; (2) identify how an applicant may demonstrate that its programs would be school-based or school-linked; (3) require applicants to identify how they are working with local educational agencies (LEAs) and the State educational agency (SEA); (4) indicate which types of early childhood, parent education programs may be supported by the PIRCs; (5) indicate whether we will award the 10-point competitive preference in PIRC competitions in future years; and (6) specify more directly that the non-profit organizations and consortia must be parent-focused.

Response: These comments do not address the particular matters on which comments were sought in the notice of proposed priority, selection criteria, and eligibility requirements, and we do not believe that rulemaking on these issues is necessary. However, we are responding as follows to the comments:

First, in implementing Federal programs, we are already working to ensure that activities supported under different programs are coordinated as appropriate.

The new PIRC legislation and application package for the FY 2002 PIRCs competition emphasize that the centers must be school-based or school-linked. Each applicant must devise specific strategies to meet this requirement. In doing so, applicants should consider the specific types of services identified in section 5564 of the ESEA and examine carefully the selection criteria for the competition, particularly the criteria concerning the quality of the design of the proposed PIRC and the quality of the services. A high-quality application would describe, among other things, how the PIRC would specifically work with schools, LEAs, and the SEA.

The PIRC program statute requires that at least 30 percent of a grantee's PIRC funds be used to establish, expand, or operate Parents as Teachers programs, Home Instruction for Preschool Youngsters programs, or other early childhood parent education programs. In deciding which early childhood parent education programs to support, PIRCs should consider factors such as whether a program (a) is research-based; (b) is comprehensive; (c) is of sufficient duration and intensity to ensure the likelihood of positive outcomes for parents and children; and (d) focuses on building the capacity of parents to support their children's learning and development over time.

The Department has made no decisions regarding what priorities, if any, might apply to any future PIRC competitions.

Finally, we believe that the materials in the application package, including the selection criteria for the program as published in this notice, will adequately ensure that all funded PIRCS will be parent-focused, with the ultimate aim of improving student academic achievement.

Changes: None.

Comment: One commenter supported our interpretation of the term “non-profit organization,” which excludes institutions of higher education, SEAs, LEAs, intermediate school districts, schools, government entities, or hospitals. This commenter, however, questioned the appropriateness of the competitive preference, particularly with respect to large States. The commenter indicated that the preference makes it very difficult for a second or third proposal from the same State to receive funding. This commenter also suggested that we award more points under the need criterion and that the need relate to a specific geographic area.

Response: The competitive preference priority will permit us to comply with the Congressional mandate that grant funds be distributed, to the extent practicable, to all regions of the United States. The priority will increase the likelihood of establishing at least one PIRC in every State, while allowing nonprofit organizations from any State to compete for a PIRC grant. Regarding the suggestion concerning assigning the need criterion additional points, we note that the need criterion is currently worth one-fifth of the total points under the selection criterion. Furthermore, the factors that we will consider under this criterion are directly related to the authorizing legislation and will therefore help ensure that applicants have described needs that are consistent with the intended purpose of the legislation.

Changes: None.

Comment: One commenter suggested that we give a 10-point competitive preference to each currently funded one-year PIRC grantee.

Response: We do not believe that giving a 10-point competitive preference to each currently funded one-year PIRC grantee is appropriate. Rather, we believe that the competitive preference that we proposed will help ensure that PIRC funds are distributed, to the extent practicable, to all regions of the country and that the highest quality applicants from each State will be funded.

Changes: None.

Competitive Preference: Under 34 CFR 75.105(c)(2), we give a competitive preference in the FY 2002 PIRC competition. To receive this preference, an applicant must—

(1) Be located and operate a PIRC in one of the following States: Alabama, Alaska, Arizona, Arkansas, American Samoa, Commonwealth of the Northern Mariana Islands, Connecticut, Delaware, the Federated States of Micronesia, Guam, Idaho, Illinois, Indiana, Kansas, Louisiana, Montana, Mississippi, Nebraska, New Mexico, North Dakota, Oregon, Puerto Rico, the Republic of the Marshall Islands, the Republic of Palau, Rhode Island, South Carolina, U.S. Virgin Islands, Utah, Virginia, West Virginia, and Wyoming; and

(2) Be the highest-scoring applicant from its State on the basis of the selection criteria for the competition.

We will award 10 points to any applicant that meets the priority. These points will be in addition to any points the applicant earns under the selection criteria.

Selection Criteria: We will use the following selection criteria to evaluate applications under the PIRC competition. The maximum points for each criterion is indicated in parentheses after the heading for that criterion.

(a) Need for the project. (20 points)

In evaluating the need for the proposed project, we consider the extent to which—

(1) The proposed project will provide services to, or otherwise address, the needs of parents who are educationally or economically disadvantaged;

(2) The training, information, and support services currently available inadequately address the needs of the parents the proposed project will serve; and

(3) The children of the parents the proposed project will serve are not meeting State or local academic achievement standards.

(b) Quality of the design of the proposed project. (25 points)

In evaluating the quality of the design of the proposed project, we consider the extent to which—

(1) The proposed project will be a school-based or school-linked center of adequate size, scope, and quality to serve effectively the parents in the area;

(2) The proposed project is designed to work in coordination with the SEA and affected LEAs (i) in determining the needs of the parents who will be targeted for assistance; and (ii) in developing an effective means for providing services to those parents;

(3) The proposed project is designed to coordinate and integrate activities funded under this grant with parental involvement activities funded from other sources, particularly Title I of the ESEA and the Individuals with Disabilities Education Act;

(4) The proposed project will support effective early childhood parent education programs that will enhance school readiness;

(5) The proposed project includes multiple strategies for providing direct and indirect services for parents targeted for assistance; and

(6) The proposed project will implement a management plan that includes clearly defined responsibilities, timelines, and milestones for achieving the objectives of the project.

(c) Quality of the services. (20 points)

In evaluating the quality of the services to be provided by the proposed project, we consider—

(1) The quality and sufficiency of strategies for ensuring equal access by, and treatment of, eligible project participants who are members of groups that have been traditionally underrepresented based on race, color, national origin, gender, age, or disability; and

(2) The extent to which the proposed project will—

(i) Provide comprehensive training, information, and support services to develop and strengthen the relationship between parents and their child's school;

(ii) Assist parents in understanding the student academic achievement standards to which their child is being held and the measures of student and school academic achievement;

(iii) Assist parents in becoming involved in their child's education in meaningful ways that are likely to improve the child's academic achievement;

(iv) Provide services that reflect up-to-date knowledge from research and effective practices; and

(v) Provide to parents services that will likely improve the developmental progress of children, including children from birth through age five.

(d) Quality of the PIRC personnel. (10 points)

In evaluating the quality of the personnel who will carry out the PIRC activities, we consider—

(1) The extent to which the applicant encourages applications for employment from persons who are members of groups that have been traditionally underrepresented based on race, color, national origin, gender, age, or disability;

(2) The qualifications, including relevant training and experience, of the PIRC director;

(3) The qualifications, including relevant training and experience, of key PIRC personnel; and

(4) The qualifications, including relevant training and experience, of PIRC consultants or subcontractors.

(e) Evaluation. (25 points)

In evaluating the quality of the evaluation the applicant proposes to conduct of the proposed project, we consider the extent to which the methods of evaluation—

(1) Are thorough, feasible, and appropriate to the goals, objectives, and outcomes of the proposed project;

(2) Produce quantitative and qualitative data; and

(3) Will result in data on whether the policies and practices of the PIRC are effective in improving home-school communication, student academic achievement, school academic achievement, and parental involvement in school planning, review, and improvement.

Eligibility Requirements: Organizations seeking funding under the PIRC Program, either individually or in consortia with one or more LEAs, must demonstrate that they are nonprofit organizations under section 501(c)(3) of the Internal Revenue Code. For purposes of the PIRC Program, the term “nonprofit organization” does not include institutions of higher education, SEAs, LEAs, intermediate school districts, schools, government entities, or hospitals.

Intergovernmental Review: This program is subject to the requirements of Executive Order 12372 (Intergovernmental Review of Federal Programs) and the regulations in 34 CFR part 79. Intergovernmental review instructions are contained in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

CFDA No.: 84.310A.

Program Authority: Subpart 16 of title V of the Elementary and Secondary Education Act, as amended by the No Child Left Behind Act of 2001 (Pub. L. 107-110), 20 U.S.C. 7273 et seq.

Dated: May 23, 2002.
Susan B. Neuman,
Assistant Secretary for Elementary and Secondary Education.

[FR Doc. 02-13369 Filed 5-24-02; 8:45 am]

BILLING CODE 4000-01-P